DEPARTMENT OF THE INTERIOR

National Park Service

[2253-665]

Notice of Inventory Completion: Minnesota Indian Affairs Council, Bemidji, MN

AGENCY: National Park Service, Interior.

ACTION: Notice.

SUMMARY: The Minnesota Indian Affairs Council has completed an inventory of human remains and associated funerary objects in consultation with the appropriate Indian tribes, and has determined that there is no cultural affiliation between the remains and any present-day Indian tribe. Representatives of any Indian tribe that believes itself to be culturally affiliated with the human remains may contact the Minnesota Indian Affairs Council. Disposition of the human remains and associated funerary objects to the Indian tribes stated below may occur if no additional requestors come forward.

DATES: Representatives of any Indian tribe that believes it has a cultural affiliation with the human remains should contact the Minnesota Indian Affairs Council at the address below by January 23, 2012.

ADDRESSES: James L. (Jim) Jones, Cultural Resource Director, Minnesota Indian Affairs Council, 3801 Bemidji Avenue NW., Suite 5, Bemidji, MN 56601, telephone (218) 755-3223.

SUPPLEMENTARY INFORMATION: Notice is here given in accordance with the Native American Graves Protection and Repatriation Act (NAGPRA), 25 U.S.C. 3003, of the completion of an inventory of human remains and associated funerary objects in the possession of the Minnesota Indian Affairs Council (MIAC). The human remains and associated funerary objects were removed from Kittson, Lake of the Woods and Roseau Counties, MN.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the MIAC professional staff in consultation with representatives of the Red Lake Band of Chippewa Indians, Minnesota and the Turtle Mountain Band of Chippewa Indians of North Dakota.

History and Description of the Remains

At an unknown date, human remains representing, at minimum, four individuals were removed from an undesignated site in Kittson County, MN, by K. Lund of Karlstad, MN. In 1976, the human remains were donated to the Minnesota Historical Society (Acc. 184-6). In 1987, the human remains were transferred to the MIAC (H319.27B). No known individuals were identified. No associated funerary objects are present.

The condition of the human remains and cranial morphology identify these human remains as pre-contact American Indian. These human remains have no archeological classification and cannot be associated with any present-day Indian tribe.

At an unknown date, human representing, at minimum, one individual were removed from an area 400 feet offshore from 21LW6, Fort St. Charles in Lake of the Woods County, MN, by divers working for the Minnesota Historical Society. The human remains were donated to the Minnesota Historical Society (Acc. 388-47). In 1993, the human remains were transferred to the MIAC (H226). No known individuals were identified. The one associated funerary object is a preform tool made from a grooved and split antler beam.

The condition and context of the human remains identify these human remains as pre-contact American Indian. These human remains have no archeological classification and cannot be associated with any present-day Indian tribe.

In 1937, human remains representing, at minimum, two individuals were removed from the O. Erickson farm, site 21-RO-28, in Malung, Roseau County, MN, by A. Erickson and donated to the Roseau County Historical Society (Acc. 13E). In 1995, the human remains were transferred to the Minnesota Office of the State Archaeologist by D. Nysteun of the Minnesota Historical Society, and in 1997, they were transferred to the MIAC (H325). No known individuals were identified. No associated funerary objects are present.

The condition of the human remains and femora morphology identify these remains as pre-contact American Indian. Records at the Roseau County Historical Society including a publication entitled, “The North Land—A History of Roseau County” report the presence of twelve arrowheads near the skeleton. These items were not included with the transfer of the human remains. These human remains have no archeological classification and cannot be associated with any present-day Indian tribe.

In 1969, human remains representing, at minimum, one individual were recovered from Roseau, site 21-RO-29, in Roseau County, MN, during a water trench construction project and transferred to the Roseau County Historical Society (Acc. 14E). In 1995, the human remains were transferred to the Minnesota Office of the State Archaeologist by D. Nysteun, and in 1997, they were transferred to the MIAC (H326). No known individuals were identified. No associated funerary objects are present.

The condition of the human remains and cranial morphology identify these remains as pre-contact American Indian. These human remains have no archeological classification and cannot be associated with any present-day Indian tribe.

At an unknown date, human remains representing, at minimum, seven individuals were recovered from an unknown location in Roseau County, MN, by unknown person(s) and donated to the Roseau County Historical Society in 1995 (Accs. 573A, 574A, 576A). In 1995, the human remains were transferred to the Minnesota Office of the State Archaeologist by D. Nysteun, and in 1997, they were transferred to the MIAC (H328). No known individuals were identified. No associated funerary objects are present.

The condition of the human remains, including red ochre staining, and cranial morphology identify these human remains as pre-contact American Indian. These human remains have no archeological classification and cannot be associated with any present-day Indian tribe.

Determinations Made by the Minnesota Indian Affairs Council

Officials of the MIAC have determined that:

• Based on non-destructive physical analysis and catalogue records, the human remains are Native American.

• Pursuant to 25 U.S.C. 3001(2), a relationship of shared group identity cannot be reasonably traced between the Native American human remains and any present-day Indian tribe.

• According to final judgments of the Indian Claims Commission, the land from which the Native American human remains and associated funerary objects were removed is the aboriginal land of the Red Lake Band of Chippewa Indians, Minnesota and the Turtle Mountain Band of Chippewa Indians of North Dakota.

• Pursuant to 25 U.S.C. 3001(9), the human remains described in this notice represent the physical remains of 15 individuals of Native American ancestry.

• Pursuant to 25 U.S.C. 3001(3)(A), the one object described above is reasonably believed to have been placed with or near individual human remains at the time of death or later as part of the death rite or ceremony.

• Pursuant to 43 CFR 10.11(c)(1), the disposition of the human remains is to the Red Lake Band of Chippewa Indians, Minnesota and the Turtle Mountain Band of Chippewa Indians of North Dakota.

Additional Requestors and Disposition

Representatives of any Indian tribe that believes itself to be culturally affiliated with the human remains or any other Indian tribe that believes it satisfies the criteria in 43 CFR 10.11(c)(1) should contact James L. (Jim) Jones, Cultural Resource Director, Minnesota Indian Affairs Council, 3801 Bemidji Avenue NW., Suite 5, Bemidji, MN 56601, telephone (218) 755-3223, before January 23, 2012. Disposition of the human remains to the Red Lake Band of Chippewa Indians, Minnesota and the Turtle Mountain Band of Chippewa Indians of North Dakota may proceed after that date if no additional requestors come forward.

The Minnesota Indian Affairs Council is responsible for notifying the Red Lake Band of Chippewa Indians, Minnesota and the Turtle Mountain Band of Chippewa Indians of North Dakota that this notice has been published.

Dated: December 20, 2011.
Sherry Hutt,
Manager, National NAGPRA Program.

[FR Doc. 2011-32971 Filed 12-22-11; 8:45 am]

BILLING CODE 4312-50-P